DEPARTMENT OF THE INTERIOR

Bureau of Land Management

[LLORV00000.L10200000.DD0000; HAG 10-0378]

Southeast Oregon Resource Advisory Council; Meeting

AGENCY: Bureau of Land Management, Interior.

ACTION: Southeast Oregon Resource Advisory Council.

SUMMARY: Pursuant to the Federal Land Policy and Management Act and the Federal Advisory Committee Act, the U.S. Department of the Interior, Bureau of Land Management (BLM) Southeast Oregon Resource Advisory Council (SEORAC) will meet as indicated below:

DATES: The SEORAC field trip will begin at 11 a.m. MDT on October 21, 2010. The SEORAC business meeting will begin 8 a.m. MDT on October 22, 2010.

ADDRESSES: The field trip will meet at the Holiday Inn Express, 212 SE 10th St. Ontario, OR 97914 at the above time. The business meeting will meet at the Holiday Inn Express Conference Room, 212 SE 10th St. Ontario, OR 97914.

FOR FURTHER INFORMATION CONTACT: Mark Wilkening, 100 Oregon Street, Vale, Oregon 97918, (541) 473-6218 or e-mail mark_wilkening@blm.gov.

SUPPLEMENTARY INFORMATION: The business meeting will take place on October 22, 2010, at the Holiday Inn Express Conference Room, 212 SE. 10th St., Ontario, OR 97914 from 8 a.m. to 4 p.m. The meeting may include such topics as an update on Oregon/Washington BLM 2015 Strategic Plan, Comments on the Oregon Department of Fish and Wildlife Sage-grouse plan, National Forests Tri-Forest Plan, Energy 101, litigation updates, subgroup reports, and other matters as may reasonably come before the council. The public is welcome to attend all portions of the meeting and may make oral comments to the Council at 1 p.m. on October 22, 2010. Those who verbally address the SEORAC are asked to provide a written statement of their comments or presentation. Unless otherwise approved by the SEORAC Chair, the public comment period will last no longer than 15 minutes, and each speaker may address the SEORAC for a maximum of five minutes. If reasonable accommodation is required, please contact the BLM Vale District Office at (541) 473-6218 as soon as possible.

Donald N. Gonzalez,
Vale District Manager.

[FR Doc. 2010-22176 Filed 9-3-10; 8:45 am]

BILLING CODE 4310-33-P